FEDERAL COMMUNICATIONS COMMISSION

[Report No. 2659]

Petitions for Reconsideration of Action in Rulemaking Proceedings

June 3, 2004.

Petitions for Reconsideration have been filed in the Commission's Rulemaking proceedings listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by June 29, 2004. See § 1.4(b)(1) of the Commission's rules (47 CFR 1.4(b)(1)). Replies to an opposition must be filed within 10 days after the time for filing oppositions have expired.

Subject: In the Matter of Amendment of Section 1.17 of the Commission's Rules Concerning Truthful Statements to the Commission (GC Docket No. 02-37). Amendment of the Commissions's Rules Regulations to Adopt Protection of the Due Process Rights and Other Protections of Title III Licensees in Connection With the Exercise by the Commission and its Staff of the Commission's Enforcement Powers and Certain Licensing and Regulatory Functions.

Number Of Petitions Filed: 1.

Subject: In the Matter of the FM Table of Allotments, FM Broadcast Stations (Ft. Collins, Westcliffe and Wheat Ridge, Colorado) (MB Docket No. 03-57, Rm-10565).

Number Of Petitions Filed: 1.

Marlene H. Dortch,
Secretary.

[FR Doc. 04-13324 Filed 6-10-04; 8:45 am]

BILLING CODE 6712-01-M